ENVIRONMENTAL PROTECTION AGENCY

[FRL-7823-1]

Notice of Availability of Draft NPDES General Permits for Certain Publicly Owned Treatment Works and Other Treatment Works in the States of Massachusetts and New Hampshire and Indian Country Lands in the State of Massachusetts

AGENCY: Environmental Protection Agency (EPA).

ACTION: Notice of Availability of Draft NPDES General Permits MAG580000 and NHG580000.

SUMMARY: The Director of the Office of Ecosystem Protection, Environmental Protection Agency—Region 1, is today providing notice of availability for public comment the Draft National Pollutant Discharge Elimination System (NPDES) general permits for certain Publicly Owned Treatment Works (POTWs) and other treatment works treating domestic sewage in the States of Massachusetts and New Hampshire and Indian Country Lands located in the State of Massachusetts. These draft general permits establishes notification requirements, effluent limitations, standards, and prohibitions, for discharges to freshwaters and marine waters.

Coverage under these general permits will be available to facilities classified as minor facilities in Massachusetts or classified as major or minor facilities in New Hampshire. Owners and/or operators of POTWs and other treatment works treating domestic sewage, including those facilities currently authorized to discharge under individual NPDES permits, will be eligible to apply for coverage under the final general permit and will receive a written notification from EPA whether permit coverage and authorization to discharge under one of the general permits is approved. The eligibility requirements, including the requirement that the facility have a dilution factor equal to or greater than 50 in the receiving water, are discussed in detail in the fact sheet and general permits. These general permits do not cover new sources as defined under 40 CFR 122.2.

DATES: Comments must be received or postmarked by midnight on November 1, 2004. Interested persons may submit comments on the draft general permits as part of the administrative record to the EPA—Region 1 at the address given below. Within the comment period, interested persons may also request in writing a public hearing pursuant to 40 CFR 124.12 concerning the draft general permits. All public comments or requests for a public hearing must be submitted to the address below.

ADDRESSES: Written comments may be hand delivered or mailed to: EPA-Region 1, Office of Ecosystem Protection (CPE), 1 Congress Street, Suite 1100, Boston, Massachusetts 02114-2023 and also sent via e-mail to wandle.bill@epa.gov. No facsimiles (faxes) will be accepted. The draft permits are based on an administrative record available for public review at EPA-Region 1, Office of Ecosystem Protection (CPE), 1 Congress Street, Suite 1100, Boston, Massachusetts 02114-2023. Copies of information in the record are available upon request. A reasonable fee may be charged for copying.

FOR FURTHER INFORMATION CONTACT: Additional information concerning the draft permits may be obtained between the hours of 8 a.m. and 4 p.m. Monday through Friday excluding holidays from: William Wandle, Office of Ecosystem Protection, Environmental Protection Agency, 1 Congress Street, Suite 1100 (CPE), Boston, MA 02114-2023, telephone: (617) 918-1605, e-mail: wandle.bill@epa.gov.

SUPPLEMENTARY INFORMATION: The draft general permit may be viewed over the Internet via the EPA—Region 1 Web site for dischargers in Massachusetts at http://www.epa.gov/ne/npdes/mass.html and for dischargers in New Hampshire at http://www.epa.gov/ne/npdes/newhampshire.html. The draft general permits include the freshwater and marine acute toxicity protocols, sludge guidance, standard permit conditions in Part II and the fact sheet which sets forth principal facts and the significant factual, legal, and policy questions considered in the development of the draft permits and provides the facilities eligible for permit coverage. To obtain a paper copy of the documents, please contact William Wandle using the contact information provided above. A reasonable fee may be charged for copying requests.

When the general permits are issued, the notice of final issuance will be published in the Federal Register. The general permits shall be effective on the date specified in the notice of final issuance of the general permits published in the Federal Register and will expire five years from the effective date.

Dated: August 23, 2004.
Robert W. Varney,
Regional Administrator, Region 1.

[FR Doc. 04-22082 Filed 9-30-04; 8:45 am]

BILLING CODE 6560-50-P